DEPARTMENT OF COMMERCE

Bureau of Industry and Security

15 CFR Part 744

[Docket No. 180718671-8671-01]

RIN 0694-AH57

Addition of Certain Entities to the Entity List, Revision of Entries on the Entity List and Removal of Certain Entities From the Entity List; Correction

AGENCY: Bureau of Industry and Security, Commerce.

ACTION: Final rule; correction.

SUMMARY: On September 4, 2018, BIS published a final rule amending the Export Administration Regulations (EAR) by adding fifteen entities under seventeen entries to the Entity List. An error of omission left out one Pakistani entity from an amendatory instruction. This correction clarifies that instruction.

DATES: This correction is effective September 13, 2018.

FOR FURTHER INFORMATION CONTACT: Chair, End-User Review Committee, Office of the Assistant Secretary, Export Administration, Bureau of Industry and Security, Department of Commerce, Phone: (202) 482-5991, Email: ERC@bis.doc.gov.

SUPPLEMENTARY INFORMATION: On September 4, 2018, at 83 FR 44821, BIS published a rule amending the Entity List in 15 CFR part 744, supplement 4. An amendatory instruction noted the addition of two entities for Pakistan, but provided the name of one only. Both entities appeared in the amendment's regulatory text and were codified on the rule's effective date. This document clarifies the rule by correcting the amendatory instruction to carry the names of both entities as originally intended.

Therefore, in FR Rule Doc. No. 2018-18766, published September 4, 2018, at 83 FR 44821, the following correction is made:

1. On page 44824, in the third column, amendatory instruction 2.d is corrected to read as follows:

2. * * *

d. Under Pakistan, by adding in alphabetical order two Pakistani entities “Technology Link PVT. Ltd.” and “UEC (Pvt.) Ltd.”;

Dated: September 7, 2018.
Karen Nies-Vogel,
Director, Office of Exporter Services.

[FR Doc. 2018-19960 Filed 9-12-18; 8:45 am]

BILLING CODE 3510-33-P